DEPARTMENT OF DEFENSE

Department of the Army

Notice of Intent To Prepare an Environmental Impact Statement (EIS) Regarding the Proposed Leasing of Lands at Fort Bliss, Texas, for the Proposed Siting, Construction, and Operation by the City of El Paso of a Brackish Water Desalination Plant and Support Facilities

AGENCY: Department of the Army, DoD.

ACTION: Notice of intent.

SUMMARY: This announces the intention of the U.S. Army Air Defense Artillery Center and Fort Bliss (SUAADACENFB) to prepare an EIS regarding the proposed leasing of lands at Fort Bliss, Texas, for the proposed siting, construction, and operation of a brackish water desalination plant (the “Project“) by the City of El Paso, Texas. The purpose of the EIS is to evaluate the environmental impacts associated with the Project.

ADDRESSES: Written comments and requests for information may be forwarded to John F. Barrera, Fort Bliss Directorate of Environment, ATTN: ATZC-DOE-C, B624 Pleasonton Road, Fort Bliss, TX 79916-6812.

FOR FURTHER INFORMATION CONTACT: John Barrera at (915) 568-3908.

SUPPLEMENTARY INFORMATION: The Project has the potential to result in effects to the human environment in and around Fort Bliss and the El Paso City and County area. The study area for the environmental analysis is the eastern half of El Paso County, which includes Fort Bliss and most of El Paso City, as well as southern portions of Doña Ana and Otero Counties, New Mexico. The objective of the DEIS is to provide a planning and decision-making too, serve as a public information service, and a reference fir mitigation tracking.

Alternatives that will be evaluated include locations for the Project and support facilities, desalination methodologies, and disposal options for the brine water resulting from the desalination process.

Issue of potential significance: The Hueco Bolson aquifer is a major source of water for Fort Bliss and the El Paso Region. This extensive underground water resource, located in large part under Fort Bliss training lands, contains significant quantities of brackish water. Brackish water is water designated by the Environmental Protection Agency as containing dissolved solids (salts) above the drinking water standards. The Project is proposed for the purpose of extending the life of fresh groundwater supplies by desalinating this brackish water for use by the City of El Paso and Fort Bliss. The Project would help meet existing and projected demands for potable water and extend the life of the Hueco Bolson aquifer.

The EIS will include analyses of environmental impacts from the following: (1) Alternative sites for the desalination plant and support facilities; (2) construction by the City of El Paso of the desalination plant and support facilities on Fort Bliss at one of three proposed locations; (3) alternative methodologies for desalination; (4) alternate methodologies for brine disposal, including reinjection and evaporation; and (5) effects of pumping brackish water out of the Hueco Bolson.

A public meeting in the vicinity of the installation and the general proposed location of the desalination plant will be held to facilitate input to the EIS process by citizens and organizations. The date and time of this meeting will be announced in the general media and will be at a time and location convenient to the public. To ensure comments are fully considered in the Draft EIS, comments and suggestions should be received no later than 15 days following the meeting. Comments and questions may also be e-mailed to desaleis@bliss.army.mil. Additional information may also be obtained at the following web site: www.bliss.army.mil.

Dated: September 5, 2003.
Raymond J. Fatz,
Deputy Assistant Secretary of the Army, (Environment, Safety and Occupational Health) OASA(I&E).

[FR Doc. 03-23243 Filed 9-11-03; 8:45 am]

BILLING CODE 3710-08-M